DEPARTMENT OF ENERGY

Federal Energy Regulatory Commission

[Project No. 13226-003; Project No. 13368-002]

Blue Heron Hydro, LLC; Notice of Applications Tendered for Filing With the Commission and Soliciting Additional Study Requests

November 10, 2010.

Take notice that the following hydroelectric applications have been filed with the Commission and are available for public inspection.

a. Types of Application: Original Major License.

b. Project Nos.: P-13226-003 and P-13368-002.

c. Date filed: November 1, 2010.

d. Applicant: Blue Heron Hydro, LLC.

e. Name of Projects: Ball Mountain Dam Hydroelectric Project; Townshend Dam Hydroelectric Project.

f. Location: Both projects would be constructed at existing U.S. Army Corps of Engineers dams (Corps) that are located on the West River in Windham County, Vermont. Each project would occupy Federal land managed by the Corps.

g. Filed Pursuant to: Federal Power Act 16 U.S.C. 791(a)-825(r).

h. Applicant Contact: Lori Barg, Blue Heron Hydro, LLC 113 Bartlett Road, Plainfield, Vermont 05667. (802) 454-1874.

i. FERC Contact: Dr. Nicholas Palso, nicholas.palso@ferc.gov or (202) 502-8854.

j. Cooperating agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 30, 2010.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

m. The applications are not ready for environmental analysis at this time.

n. The Ball Mountain Dam Hydroelectric Project would utilize the Corps' existing Ball Mountain Dam and reservoir and would consist of: (1) Two turbine generator modules located within the existing intake tower, each containing 6 horizontal mixed flow turbines directly connected to 6 submersible generator units for a total installed capacity of 2,200 kilowatts (kW); (2) a new 12.47-kilovolt (kV), 1,320-foot-long transmission line; and (3) appurtenant facilities. The project would have an estimated average annual generation of approximately 6,000 megawatt-hours (MWh).

The Townshend Dam Hydroelectric Project would utilize the Corps' existing Townshend Dam and reservoir and would consist of: (1) Two turbine generator modules located within the existing intake tower, each containing 6 horizontal mixed flow turbines directly connected to 6 submersible generator units for a total installed capacity of 925 kW; (2) a new 12.47-kV, 430-foot-long transmission line; and (3) appurtenant facilities. The project would have an estimated average annual generation of approximately 2,000 MWh.

o. Copies of the applications are available for review at the Commission in the Public Reference Room or may be viewed on the Commission's Web site at http://www.ferc.gov using the “eLibrary” link. Enter the docket number excluding the last three digits in the docket number field to access the document. For assistance, contact FERC Online Support. Copies are also available for inspection and reproduction at the address in item h above.

You may also register online at http://www.ferc.gov/docs-filing/esubscription.asp to be notified via e-mail of new filings and issuances related to this or other pending projects. For assistance, contact FERC Online Support.

p. With this notice, we are initiating consultation with the Vermont State Historic Preservation Officer (SHPO), as required by § 106, National Historic Preservation Act, and the regulations of the Advisory Council on Historic Preservation, 36, CFR, at 800.4.

q. Procedural schedule: The applications will be processed according to the following Hydro Licensing Schedule. Revisions to the schedule will be made as appropriate.

Notice of Acceptance/Notice of Ready for Environmental Analysis | January 2010
Filing of recommendations, preliminary terms and conditions, and fishway prescriptions | March 2011
Commission issues Non-Draft EA | August 2011
Comments on EA | September 2011
Modified terms and conditions | November 2011

Kimberly D. Bose,
Secretary.

[FR Doc. 2010-29062 Filed 11-17-10; 8:45 am]

BILLING CODE 6717-01-P